DEPARTMENT OF HOMELAND SECURITY

Coast Guard

[USCG-2006-24513]

Chemical Transportation Advisory Committee

AGENCY: Coast Guard, DHS.

ACTION: Notice of meeting.

SUMMARY: The Chemical Transportation Advisory Committee (CTAC), its Subcommittees on Outreach and Hazardous Cargo Transportation Security (HCTS), and its Working Group on Barge Emissions and Barge Placarding will meet to discuss various issues relating to the marine transportation of hazardous materials in bulk. These meetings will be open to the public.

DATES: The Working Group on Barge Emissions and Barge Placarding will meet on Tuesday, May 9, 2006, from 9 a.m. to 3:30 p.m. The Outreach Subcommittee will meet on Wednesday, May 10, 2006, from 9 a.m. to 11 a.m. and the HCTS Subcommittee will meet on Wednesday, May 10, 2006, from 12 noon to 3:30 p.m. CTAC will meet on Thursday, May 11, 2006, from 9 a.m. to 3:30 p.m. These meetings may close early if all business is finished. Written material and requests to make oral presentations should reach the Coast Guard on or before May 1, 2006. Requests to have a copy of your material distributed to each member of the Committee should reach the Coast Guard on or before May 1, 2006.

ADDRESSES: All meetings will be held at Coast Guard Sector Delaware Bay, One Washington Avenue, Philadelphia, PA 19147. Send written material and requests to make oral presentations to Commander Robert J. Hennessy, Executive Director of CTAC, Commandant (G-PSO-3), U.S. Coast Guard Headquarters, 2100 Second Street SW., Washington, DC 20593-0001 or E-mail: CTAC@comdt.uscg.mil. This notice is available on the Internet at http://dms.dot.gov.

FOR FURTHER INFORMATION CONTACT: Commander Robert J. Hennessy, Executive Director of CTAC, or Ms. Sara Ju, Assistant to the Executive Director, telephone 202-267-1217, fax 202-267-4570.

SUPPLEMENTARY INFORMATION: Notice of these meetings is given under the Federal Advisory Committee Act, 5 U.S.C. App. 2.

Agenda of Working Group on Barge Emissions and Barge Placarding

(1) Introduce Working Group members and attendees.

(2) Review barge emissions guidance documents.

(3) Discuss implementation strategy.

(4) Develop position regarding the placarding of inland barges.

Agenda of Outreach Subcommittee Meeting on Wednesday, May 10, 2006

(1) Introduce Subcommittee members and attendees.

(2) Finalize CTAC accomplishments list.

(3) Develop CTAC outreach presentation.

(4) Schedule fall 2006 CTAC meeting.

Agenda of HCTS Subcommittee Meeting on Wednesday, May 10, 2006

(1) Introduce Subcommittee members and attendees.

(2) Develop guidance on hazards of certain dangerous cargo (CDC) residues.

Agenda of CTAC Meeting on Thursday, May 10, 2006

(1) Introduce Committee members and attendees.

(2) Status report presentation from the CTAC HCTS Subcommittee.

(3) Status report presentation from the CTAC Outreach Subcommittee.

(4) Status report presentation from the CTAC MARPOL Annex II Working Group.

(5) Status report presentation from the CTAC Barge Emission and Barge Placarding Working Group.

(6) Presentation on the role of the International Tanker Owners Pollution Federation Limited (ITOPF) in marine oil and chemical spill response.

(7) Presentation on hazardous material transportation issues around large populations.

(8) Presentation on cracks in chemical tankers.

(9) Update on Coast Guard regulatory projects.

Procedural

These meetings are open to the public. Please note that the meetings may close early if all business is finished. At the discretion of the Chair, members of the public may make oral presentations during the meetings generally limited to 5 minutes. If you would like to make an oral presentation at a meeting, please notify the Executive Director and submit written material on or before May 1, 2006. If you would like a copy of your material distributed to each member of the Committee in advance of a meeting, please submit 25 copies to the Executive Director (see ADDRESSES) no later than May 1, 2006.

Information on Services for Individuals With Disabilities

For information on facilities or services for individuals with disabilities, or to request special assistance at the meeting, telephone the Executive Director as soon as possible.

Dated: April 13, 2006.
Howard L. Hime,
Acting Director of Standards, Assistant Commandant for Prevention.

[FR Doc. E6-5960 Filed 4-20-06; 8:45 am]

BILLING CODE 4910-15-P